DEPARTMENT OF TRANSPORTATION

Federal Aviation Administration

14 CFR Part 39

[Docket No. 2000-NM-180-AD; Amendment 39-12189; AD 2001-08-12]

RIN 2120-AA64

Airworthiness Directives; Airbus Model A340 Series Airplanes Equipped With CFM International CFM56-5C Engines

AGENCY: Federal Aviation Administration, DOT.

ACTION: Final rule; request for comments.

SUMMARY: This amendment adopts a new airworthiness directive (AD) that is applicable to certain Model A340 series airplanes. This action requires repetitive inspections of the pivoting door roller fittings of the upper and lower thrust reversers for cracks, and corrective action, if necessary. This action is prompted by issuance of mandatory continuing airworthiness information by a foreign civil airworthiness authority. This action is intended to detect and correct cracking of the pivoting door roller fittings of the thrust reversers, which could result in failure of the primary locking mechanism of the thrust reversers during flight, leading to reduced controllability of the airplane. This action is intended to address the identified unsafe condition.

DATES: Effective May 11, 2001.

The incorporation by reference of certain publications listed in the regulations is approved by the Director of the Federal Register as of May 11, 2001.

Comments for inclusion in the Rules Docket must be received on or before May 29, 2001.

ADDRESSES: Submit comments in triplicate to the Federal Aviation Administration (FAA), Transport Airplane Directorate, ANM-114, Attention: Rules Docket No. 2000-NM-180-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-180-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Gary Lium, Aerospace Engineer, International Branch, ANM-116, FAA, Transport Airplane Directorate, 1601 Lind Avenue, SW., Renton, Washington 98055-4056; telephone (425) 227-1112; fax (425) 227-1149.

SUPPLEMENTARY INFORMATION: The Direction Générale de l'Aviation Civile (DGAC), which is the airworthiness authority for France, notified the FAA that an unsafe condition may exist on certain Airbus A340 series airplanes. The DGAC advises that two pilots experienced “rev unlock” warnings during flight, indicating that the thrust reversers were unlocked. In each incident, the warning led the pilot to turn back to the departure point. These warnings resulted from failure of the upper pivoting door roller fittings. Both fittings have been recovered and the failure has been confirmed to be due to fatigue. This action is intended to detect and correct cracking of the pivoting door roller fittings of the thrust reversers, which could result in failure of the primary locking mechanism of the thrust reversers during flight, leading to reduced controllability of the airplane.

Explanation of Relevant Service Information

Airbus has issued Service Bulletin A340-78-4017, dated October 14, 1999, which describes procedures for a special detailed inspection for cracks in the pivoting door roller fittings of the thrust reversers. The inspection may be done using either an eddy current or fluorescent penetrant procedure.

If cracked fittings are detected by the inspection, one must take one of the following actions:

1. Replace the cracked fittings with new fittings and re-inspect all four fittings every 500 flight hours, or

2. Replace all 4 fittings with new fittings, which resets the repetitive inspection interval to every 7,000 flight hours or 1,200 flight cycles.

One may also elect to replace all 4 fittings with new fittings without performing any inspection for cracks, which also resets the repetitive inspection interval to every 7,000 flight hours or 1,200 flight cycles.

The DGAC classified this service bulletin as mandatory and issued French airworthiness directive 1998-543-105(B) R2, dated November 17, 1999, in order to assure the continued airworthiness of these airplanes in France.

Airbus Service Bulletin A320-78-4017 references ROHR Alert Service Bulletin RA340A78-57, Revision 1, dated May 18, 1999, as an additional source of service information for accomplishment of the special detailed inspection and replacement of the pivoting door roller fittings on the thrust reversers.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design that may be registered in the United States at some time in the future, this AD is intended to detect and correct cracking of the pivoting door roller fittings on the thrust reversers, which could result in failure of the primary locking mechanism of the thrust reversers during flight, leading to reduced controllability of the airplane. This AD requires accomplishment of the actions specified in the Airbus service bulletin described previously.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 6 work hours to accomplish the required special detailed inspection at an average labor rate of $60 per work hour. Based on these figures, the cost impact of this AD would be $360 per airplane, per inspection cycle.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-180-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-12 Airbus Industrie: Amendment 39-12189. Docket 2000-NM-180-AD.

Applicability: Model A340 series airplanes, certificated in any category, equipped with CFM International CFM56-5C engines.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To detect and correct cracking of the pivoting door roller fittings on the thrust reversers, which could result in failure of the primary locking mechanism of the thrust reversers during flight, leading to reduced controllability of the airplane, accomplish the following:

Inspections

(a) Except as required by paragraph (b) of this AD, perform a special detailed inspection of the pivoting door roller fittings for cracks, using the eddy current or the fluorescent penetrant procedure. The inspection must be performed in accordance with Airbus Service Bulletin A340-78-4017, dated October 14, 1999, and must be performed at the later of the times specified in paragraphs (a)(1) and (a)(2).

(1) Prior to the accumulation of 7,000 total flight hours or 1,200 total flight cycles, whichever occurs first; or

(2) Within 500 flight hours after the effective date of this AD.

Note 2: ROHR Alert Service Bulletin RA340A78-57, Revision 1, dated May 18, 1999, is an additional source of service information for accomplishment of the special detailed inspection and replacement of the pivoting door roller fittings on the thrust reversers.

(b) Whenever a high engine vibration advisory occurs: Prior to the next flight, perform a special detailed inspection of the pivoting door roller fittings for cracks, using an eddy current or fluorescent penetrant procedure, in accordance with Airbus Service Bulletin A340-78-4017, dated October 14, 1999.

Corrective Action

(c) If no crack is detected during any inspection of the pivoting door roller fittings on the thrust reversers as required by paragraph (a) or (b) of this AD, repeat the inspection at intervals not to exceed 500 flight hours.

(d) If a crack is detected during any inspection of the pivoting door roller fittings on the thrust reversers as required by paragraph (a) or (b) of this AD, prior to further flight, accomplish either paragraph (d)(1) or (d)(2) of this AD.

(1) Replace the fittings which are cracked with new fittings and repeat the inspection required by paragraph (a) at intervals not to exceed 500 flight hours; or

(2) Replace all 4 fittings with new fittings and repeat the inspection required by paragraph (a) every 7,000 flight hours or 1,200 flight cycles, whichever comes first.

(e) If the inspection required by paragraph (a) or (b) cannot be performed, or if the inspection is performed and a fitting is found to be cracked, but it cannot be replaced prior to the next flight, perform a secondary lock functional test in accordance with Aircraft Maintenance Manual (AMM) 78-31-41-720-050 and deactivate the thrust reversers in accordance with AMM 78-30-00-040-802 and the FAA-approved Master Minimum Equipment List.

Note 3: Operators are reminded of the limit of three calendar days imposed on deactivation of thrust reversers not modified in accordance with BFGoodrich AOW/CFM56-97-017 and Airbus All Operators Telex (AOT) A340/AOT 78-06, dated May 28, 1998.

Alternative Methods of Compliance

(f) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(g) Special flight permits may be issued in accordance with sections 21.197 and 21.199 of the Federal Aviation Regulations (14 CFR 21.197 and 21.199) to operate the airplane to a location where the requirements of this AD can be accomplished.

Incorporation by Reference

(h) Except as provided by paragraph (e) of this AD, the actions must be done in accordance with Airbus Service Bulletin A340-78-4017, dated October 14, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 1998-543-105(B) R2, dated November 17, 1999.

Effective Date

(i) This amendment becomes effective on May 11, 2001.

Issued in Renton, Washington, on April 16, 2001.
Donald L. Riggin,
Acting Manager, Transport Airplane Directorate, Aircraft Certification Service.

[FR Doc. 01-9878 Filed 4-25-01; 8:45 am]

BILLING CODE 4910-13-P